FEDERAL HOUSING FINANCE AGENCY

[No. 2012-N-05]

Federal Home Loan Bank Members Selected for Community Support Review

AGENCY: Federal Housing Finance Agency.

ACTION: Notice.

SUMMARY: The Federal Housing Finance Agency (FHFA) is announcing the Federal Home Loan Bank (Bank) members it has selected for the 2010 sixth round review cycle under the FHFA's community support requirements regulation. This notice also prescribes the deadline by which Bank members selected for review must submit Community Support Statements to FHFA.

DATES: Bank members selected for the review cycle under the FHFA's community support requirements regulation must submit completed Community Support Statements to FHFA on or before July 30, 2012.

ADDRESSES: Bank members selected for the 2010 sixth round review cycle under the FHFA's community support requirements regulation must submit completed Community Support Statements to FHFA either by hard-copy mail at the Federal Housing Finance Agency, Ninth Floor, Housing Mission and Goals (DHMG), 400 Seventh Street, SW., Washington, DC 20024, or by electronic mail at hmgcommunitysupportprogram@fhfa.gov.

FOR FURTHER INFORMATION CONTACT: Rona Richardson, Administrative Office Manager, Housing Mission and Goals (DHMG), Federal Housing Finance Agency, by telephone at 202-649-3224, by electronic mail at Rona.Richardson@FHFA.gov, or by hard-copy mail at the Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the July 30, 2012 deadline prescribed in this notice. 12 CFR 1290.2(b)(1)(ii) and (c). On or before June 29, 2012, each Bank will notify the members in its district that have been selected for the 2010 sixth round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2010 sixth round community support review cycle:

Federal Home Loan Bank of Boston—District 1
The Community's Bank | Bridgeport | Connecticut.
Charter Oak Federal Credit Union | Groton | Connecticut.
Salisbury Bank & Trust Company | Lakeville | Connecticut.
Bank of New Canaan | New Canaan | Connecticut.
The Bank of Southern Connecticut | New Haven | Connecticut.
Chelsea Groton Bank | Norwich | Connecticut.
United Business & Industry Federal Credit Union | Plainville | Connecticut.
Thomaston Savings Bank | Thomaston | Connecticut.
Wilton Bank | Wilton | Connecticut.
Kennebec Savings Bank | Augusta | Maine.
Bath Savings Institution | Bath | Maine.
Five County Credit Union | Bath | Maine.
The County Federal Credit Union | Caribou | Maine.
Maine Highlands Federal Credit Union | Dexter | Maine.
Casco Federal Credit Union | Gorham | Maine.
Maine Savings Federal Credit Union | Hampden | Maine.
Penobscot Federal Credit Union | Old Town | Maine.
Saco & Biddeford Savings Institution | Saco | Maine.
Trademark Federal Credit Union | Scarborough | Maine.
Coast Line Credit Union | South Portland | Maine.
Town & Country Federal Credit Union | South Portland | Maine.
Leader Bank, National Association | Arlington | Massachusetts.
Medical Area Federal Credit Union | Brookline | Massachusetts.
Mercantile Bank and Trust Company | Boston | Massachusetts.
Easthampton Savings Bank | Easthampton | Massachusetts.
Martha's Vineyard Savings Bank | Edgartown | Massachusetts.
GFA Federal Credit Union | Gardner | Massachusetts.
BankGloucester | Gloucester | Massachusetts.
Avidia Bank | Hudson | Massachusetts.
Merrimack Valley Federal Credit Union | Lawrence | Massachusetts.
Lowell Five Cents Savings Bank | Lowell | Massachusetts.
Washington Savings Bank | Lowell | Massachusetts.
Community Credit Union of Lynn | Lynn | Massachusetts.
Eastern Bank | Lynn | Massachusetts.
River Works Credit Union | Lynn | Massachusetts.
St. Jean's Credit Union | Lynn | Massachusetts.
National Grand Bank of Marblehead | Marblehead | Massachusetts.
Middlesex Savings Bank | Natick | Massachusetts.
North Easton Savings Bank | North Easton | Massachusetts.
Seamen's Bank | Provincetown | Massachusetts.
Granite Savings Bank | Rockport | Massachusetts.
Rockport National Bank | Rockport | Massachusetts.
Randolph Savings Bank | Stoughton | Massachusetts.
Walpole Co-Operative Bank | Walpole | Massachusetts.
Watertown Savings Bank | Watertown | Massachusetts.
Northern Bank and Trust Company | Woburn | Massachusetts.
First Colebrook Bank | Colebrook | New Hampshire.
Merrimack County Savings Bank | Concord | New Hampshire.
New Hampshire Federal Credit Union | Concord | New Hampshire.
Bank of New Hampshire | Laconia | New Hampshire.
Mascoma Savings Bank, FSB | Lebanon | New Hampshire.
Bank of New England | Windham | New Hampshire.
Freedom National Bank | Greenville | Rhode Island.
Navigant Credit Union | Smithfield | Rhode Island.
Home Loan Investment Bank, FSB | Warwick | Rhode Island.
NorthCountry Federal Credit Union | South Burlington | Vermont.
Federal Home Loan Bank of New York—District 2.
Hudson Valley Bank, National Association | Stamford | Connecticut.
BCB Community Bank | Bayonne | New Jersey.
Somerset Hills Bank | Bernardsville | New Jersey.
Mariner's Bank | Edgewater | New Jersey.
Two River Community Bank | Middletown | New Jersey.
Millville Savings & Loan Association | Millville | New Jersey.
Cornerstone Bank | Moorestown | New Jersey.
New Millennium Bank | New Brunswick | New Jersey.
Crown Bank | Ocean City | New Jersey.
Hopewell Valley Community Bank | Pennington | New Jersey.
Rumson-Fair Haven Bank & Trust Company | Rumson | New Jersey.
First Financial Federal Credit Union | Toms River | New Jersey.
Llewellyn-Edison Savings Bank, FSB | West Orange | New Jersey.
State Employees Federal Credit Union | Albany | New York.
Bank of Greene County | Catskill | New York.
Bank of Cattaraugus | Cattaraugus | New York.
Flushing Savings Bank, FSB | Flushing | New York.
Gouverneur Savings and Loan Association | Gouverneur | New York.
Sunnyside Federal Savings & Loan Association | Irvington | New York.
Community Mutual Savings Bank | Mount Vernon | New York.
Alpine Capital Bank | New York | New York.
BPD International Bank | New York | New York.
Signature Bank | New York | New York.
Woori America Bank | New York | New York.
Intervest National Bank | New York | New York.
TEG Federal Credit Union | Poughkeepsie | New York.
Quorum Federal Credit Union | Purchase | New York.
Northeastern Engineers Federal Credit Union | Richmond Hill | New York.
Summit Federal Credit Union | Rochester | New York.
Sunmark Federal Credit Union | Schenectady | New York.
Sidney Federal Credit Union | Sidney | New York.
Victory State Bank | Staten Island | New York.
Watertown Savings Bank | Watertown | New York.
Community Federal Savings Bank | Woodhaven | New York.
Banco Popular De Puerto Rico | Hato Rey | Puerto Rico.
FirstBank of Puerto Rico | Santurce | Puerto Rico.
Federal Home Loan Bank of Pittsburgh—District 3
The Bancorp Bank | Wilmington | Delaware.
Lehigh Valley Educators Credit Union | Allentown | Pennsylvania.
Enterprise Bank | Allison Park | Pennsylvania.
Apollo Trust Company | Apollo | Pennsylvania.
Sun East Federal Credit Union | Aston | Pennsylvania.
Fidelity Savings & Loan Association of Bucks County | Bristol | Pennsylvania.
Integrity Bank | Camp Hill | Pennsylvania.
The Farmers and Merchants Trust Company | Chambersburg | Pennsylvania.
DNB First, National Association | Downingtown | Pennsylvania.
Elderton State Bank | Elderton | Pennsylvania.
Fleetwood Bank | Fleetwood | Pennsylvania.
The First National Bank of Fredericksburg | Fredericksburg | Pennsylvania.
PeoplesBank, a Codorus Valley Company | Glen Rock | Pennsylvania.
The Gratz National Bank | Gratz | Pennsylvania.
Harleysville Savings Bank | Harleysville | Pennsylvania.
S & T Bank | Indiana | Pennsylvania.
First Cornerstone Bank | King Of Prussia | Pennsylvania.
Reliance Federal Credit Union | King Of Prussia | Pennsylvania.
Bank of Landisburg | Landisburg | Pennsylvania.
Liverpool Community Bank | Liverpool | Pennsylvania.
Juniata Valley Bank | Mifflintown | Pennsylvania.
Mid Penn Bank | Millersburg | Pennsylvania.
Union National Bank of Mount Carmel | Mount Carmel | Pennsylvania.
Citizens Savings Bank | Mount Pocono | Pennsylvania.
New Tripoli Bank | New Tripoli | Pennsylvania.
Orrstown Bank | Orrstown | Pennsylvania.
Police And Fire Federal Credit Union | Philadelphia | Pennsylvania.
Diamond Credit Union | Pottstown | Pennsylvania.
Apex Community Federal Credit Union | Stowe | Pennsylvania.
The Turbotville National Bank | Turbotville | Pennsylvania.
Woodlands Bank | Williamsport | Pennsylvania.
York Traditions Bank | York | Pennsylvania.
Freedom Bank, Inc | Belington | West Virginia.
Clear Mountain Bank | Bruceton Mill | West Virginia.
First Bank of Charleston | Charleston | West Virginia.
Summit Community Bank, Inc | Charleston | West Virginia.
Fairmont Federal Credit Union | Fairmont | West Virginia.
First Exchange Bank | Mannington | West Virginia.
Northern Hancock Bank & Trust Company | Newell | West Virginia.
FNB Bank, Inc | Romney | West Virginia.
West Union Bank | West Union | West Virginia.
Main Street Bank Corporation | Wheeling | West Virginia.
Federal Home Loan Bank of Atlanta—District 4
Compass Bank | Birmingham | Alabama.
Traditions Bank | Cullman | Alabama.
BankSouth | Dothan | Alabama.
First Southern Bank | Florence | Alabama.
First National Bank of Baldwin County | Foley | Alabama.
First State Bank of Dekalb County | Fort Payne | Alabama.
Citizens Bank & Trust | Guntersville | Alabama.
Merchants Bank of Alabama | Hanceville | Alabama.
Redstone Federal Credit Union | Huntsville | Alabama.
Corporate America Credit Union | Irondale | Alabama.
Citizens Bank & Savings Company | Russellville | Alabama.
The North Jackson Bank | Stevenson | Alabama.
First State Bank of the South, Inc | Sulligent | Alabama.
Troy Bank & Trust Company | Troy | Alabama.
First Community Bank of Central Alabama | Wetumpka | Alabama.
IDB-IIC Federal Credit Union | Washington | District of Columbia.
Gibraltar Bank, FSB | Coral Gables | Florida.
Floridian Community Bank, Inc | Davie | Florida.
Florida Gulf Bank | Fort Myers | Florida.
FNBT.COM Bank | Fort Walton Beach | Florida.
Florida Credit Union | Gainesville | Florida.
Merchants and Southern Bank | Gainesville | Florida.
Peoples Bank of Graceville | Graceville | Florida.
CenterBank of Jacksonville, National Association | Jacksonville | Florida.
Peoples State Bank | Lake City | Florida.
Sunstate Bank | Miami | Florida.
Union Credit Bank | Miami | Florida.
University Credit Union | Miami | Florida.
Royal Palm Bank of Florida | Naples | Florida.
Insight Financial Credit Union | Orlando | Florida.
Southbank, A Federal Savings Bank | Palm Beach | Florida.
Gulf Coast Community Bank | Pensacola | Florida.
Hillsboro Bank | Plant City | Florida.
Sanibel Captiva Community Bank | Sanibel | Florida.
Bank of Commerce | Sarasota | Florida.
Sunshine Savings Bank | Tallahassee | Florida.
Century Bank of Florida | Tampa | Florida.
Palm Bank | Tampa | Florida.
Suncoast Schools Federal Credit Union | Tampa | Florida.
The Bank of Tampa | Tampa | Florida.
Commerce National Bank & Trust | Winter Park | Florida.
United Legacy Bank | Winter Park | Florida.
First American Bank and Trust Company | Athens | Georgia.
CDC Federal Credit Union | Atlanta | Georgia.
Georgia Commerce Bank | Atlanta | Georgia.
Century Bank of Georgia | Cartersville | Georgia.
Citizens Bank of Cochran | Cochran | Georgia.
State Bank of Cochran | Cochran | Georgia.
First State Bank of Randolph County | Cuthbert | Georgia.
First Intercontinental Bank | Doraville | Georgia.
Douglas National Bank | Douglas | Georgia.
Gwinnett Community Bank | Duluth | Georgia.
Citizens Bank and Trust Company | Eastman | Georgia.
Glennville Bank | Glennville | Georgia.
Citizens Community Bank | Hahira | Georgia.
Bank of Hazlehurst | Hazlehurst | Georgia.
Heritage Bank | Hinesville | Georgia.
Farmers and Merchants Bank | Lakeland | Georgia.
Brand Banking Company | Lawrenceville | Georgia.
Associated Credit Union | Norcross | Georgia.
The Patterson Bank | Patterson | Georgia.
Pelham Banking Company | Pelham | Georgia.
The Bank of Perry | Perry | Georgia.
Heritage First Bank | Rome | Georgia.
Carver State Bank | Savannah | Georgia.
First Chatham Bank | Savannah | Georgia.
The Savannah Bank, National Association | Savannah | Georgia.
Bank of Soperton | Soperton | Georgia.
Citizens Bank of Swainsboro | Swainsboro | Georgia.
Bank of Upson | Thomaston | Georgia.
Thomasville National Bank | Thomasville | Georgia.
The Park Avenue Bank | Valdosta | Georgia.
Oconee State Bank | Watkinsville | Georgia.
Atlantic Coast Bank | Waycross | Georgia.
The First National Bank of Waynesboro | Waynesboro | Georgia.
First Mariner Bank | Baltimore | Maryland.
Kosciuszko Federal Savings Bank | Baltimore | Maryland.
Midstate Federal Savings and Loan | Baltimore | Maryland.
The John Hopkins Federal Credit Union | Baltimore | Maryland.
The Washington Savings Bank, FSB | Bowie | Maryland.
Chesapeake Bank and Trust Company | Chestertown | Maryland.
The Columbia Bank | Columbia | Maryland.
The Bank of Glen Burnie | Glen Burnie | Maryland.
Tower Federal Credit Union | Laurel | Maryland.
Sandy Spring Bank | Olney | Maryland.
Cedar Point Federal Credit Union | Patuxent River | Maryland.
Prince George's Federal Savings Bank | Upper Marlboro | Maryland.
Belmont Federal Savings & Loan Association | Belmont | North Carolina.
Black Mountain Savings Bank, S.S.B | Black Mountain | North Carolina.
Harrington Bank, FSB | Chapel Hill | North Carolina.
HomeTrust Bank | Clyde | North Carolina.
Cabarrus Bank & Trust Company | Concord | North Carolina.
Self-help Credit Union | Durham | North Carolina.
Citizens South Bank | Gastonia | North Carolina.
First Carolina Corporate Credit Union | Greensboro | North Carolina.
First Flight Federal Credit Union | Havelock | North Carolina.
Carolina Trust Bank | Lincolnton | North Carolina.
Bank of Oak Ridge | Oak Ridge | North Carolina.
Coastal Federal Credit Union | Raleigh | North Carolina.
First National Bank of Shelby | Shelby | North Carolina.
Bank of North Carolina | Thomasville | North Carolina.
WNC Community Credit Union | Waynesville | North Carolina.
Allegacy Federal Credit Union | Winston-Salem | North Carolina.
Members Credit Union | Winston-Salem | North Carolina.
Clover Community Bank | Clover | South Carolina.
Palmetto Citizens Federal Credit Union | Columbia | South Carolina.
Cornerstone National Bank | Easley | South Carolina.
Sharonview Federal Credit Union | Fort Mill | South Carolina.
Carolina First Bank | Greenville | South Carolina.
SPC Cooperative Credit Union | Hartsville | South Carolina.
Farmers and Merchants Bank | Holly Hill | South Carolina.
Carolina Trust Federal Credit Union | Myrtle Beach | South Carolina.
Arthur State Bank | Union | South Carolina.
Pentagon Federal Credit Union | Alexandria | Virginia.
Shiloh of Alexandria Federal Credit Union | Alexandria | Virginia.
United States Senate Federal Credit Union | Alexandria | Virginia.
Justice Federal Credit Union | Chantilly | Virginia.
American National Bank & Trust Company | Danville | Virginia.
Fairfax County Federal Credit Union | Fairfax | Virginia.
United Bank | Fairfax | Virginia.
The Bank of Fincastle | Fincastle | Virginia.
First Capital Bank | Glen Allen | Virginia.
Franklin Federal Savings & Loan Association of Richmond | Glen Allen | Virginia.
New Peoples Bank | Honaker | Virginia.
The Bank of McKenney | McKenney | Virginia.
The Middleburg Bank | Middleburg | Virginia.
1st Advantage Federal Credit Union | Newport News | Virginia.
Dupont Fibers Federal Credit Union | Richmond | Virginia.
Virginia Credit Union, Inc | Richmond | Virginia.
Freedom First Federal Credit Union | Roanoke | Virginia.
Shenandoah Life Insurance Company | Roanoke | Virginia.
Franklin Community Bank, National Association | Rocky Mount | Virginia.
Farmers and Merchants Bank | Timberville | Virginia.
Baylands Federal Credit Union | West Point | Virginia.
Citizens and Farmers Bank | West Point | Virginia.
Federal Home Loan Bank of Cincinnati—District 5
South Central Bank of Bowling Green, Inc | Bowling Green | Kentucky.
Taylor County Bank | Campbellsville | Kentucky.
The Cecilian Bank | Cecilia | Kentucky.
First Federal Savings Bank of Elizabethtown | Elizabethtown | Kentucky.
Victory Community Bank | Fort Mitchell | Kentucky.
Edmonton State Bank | Glasgow | Kentucky.
South Central Bank, Inc | Glasgow | Kentucky.
Bank of Harlan | Harlan | Kentucky.
Commonwealth Community Bank | Hartford | Kentucky.
The Citizens Bank | Hickman | Kentucky.
Bank of Hindman | Hindman | Kentucky.
The First State Bank | Irvington | Kentucky.
The Farmers National Bank of Lebanon | Lebanon | Kentucky.
First National Bank of Lexington | Lexington | Kentucky.
GTKY Credit Union | Lexington | Kentucky.
Members Heritage Federal Credit Union | Lexington | Kentucky.
Whitaker Bank | Lexington | Kentucky.
Cumberland Valley NB&T Company | London | Kentucky.
Jefferson County Federal Credit Union | Louisville | Kentucky.
Park Community Federal Credit Union | Louisville | Kentucky.
PBI Bank | Louisville | Kentucky.
Rural Cooperatives Credit Union | Louisville | Kentucky.
Magnolia Bank, Inc | Magnolia | Kentucky.
The First National Bank of Manchester | Manchester | Kentucky.
First Kentucky Bank, Inc | Mayfield | Kentucky.
United Community Bank of West Kentucky, Inc | Morganfield | Kentucky.
Citizens National Bank of Paintsville | Paintsville | Kentucky.
West Point Bank | Radcliff | Kentucky.
Peoples Bank | Taylorsville | Kentucky.
Bank of McCreary County | Whitley City | Kentucky.
Grant County Deposit Bank | Williamstown | Kentucky.
Firestone Federal Credit Union | Akron | Ohio.
FirstMerit Bank, National Association | Akron | Ohio.
GenFed Federal Credit Union | Akron | Ohio.
The Farmers & Merchants State Bank | Archbold | Ohio.
The Citizens Bank of Ashville | Ashville | Ohio.
Century Federal Credit Union | Cleveland | Ohio.
The Pioneer Savings Bank | Cleveland | Ohio.
Clyde-Findlay Area Credit Union | Clyde | Ohio.
CME Federal Credit Union | Columbus | Ohio.
Corporate One Federal Credit Union | Columbus | Ohio.
OhioHealth Federal Credit Union | Columbus | Ohio.
Dayton Firefighters Federal Credit Union | Dayton | Ohio.
First Federal Savings & Loan Association | Delta | Ohio.
BMI Federal Credit Union | Dublin | Ohio.
Wright-Patt Credit Union, Inc | Fairborn | Ohio.
Community First Bank, National Association | Forest | Ohio.
The Croghan Colonial Bank | Fremont | Ohio.
Ohio Catholic Federal Credit Union | Garfield Heights | Ohio.
Harvest Federal Credit Union | Heath | Ohio.
Hopewell Federal Credit Union | Heath | Ohio.
The Killbuck Savings Bank, Co | Killbuck | Ohio.
Superior Federal Credit Union | Lima | Ohio.
CenterBank | Milford | Ohio.
RiverHills Bank | New Richmond | Ohio.
Bay Area Credit Union, Inc | Oregon | Ohio.
Home National Bank | Racine | Ohio.
Park View Federal Savings Bank | Solon | Ohio.
The Old Fort Banking Company | Tiffin | Ohio.
Signature Bank, National Association | Toledo | Ohio.
First State Bank of Adams County | Winchester | Ohio.
Ohio Legacy Bank, National Association | Wooster | Ohio.
Wayne Savings Community Bank | Wooster | Ohio.
Dollar Bank, FSB | Pittsburgh | Pennsylvania.
SouthEast Bank & Trust | Athens | Tennessee.
Insouth Bank | Brownsville | Tennessee.
Citizens Bank | Carthage | Tennessee.
First Volunteer Bank | Chattanooga | Tennessee.
Tennessee Valley Federal Credit Union | Chattanooga | Tennessee.
Cumberland Bank & Trust Company | Clarksville | Tennessee.
First Federal Savings Bank | Clarksville | Tennessee.
Peoples Bank | Clifton | Tennessee.
Community National Bank | Dayton | Tennessee.
Bank of Dickson | Dickson | Tennessee.
Gates Banking and Trust Company | Gates | Tennessee.
Bank of Gleason | Gleason | Tennessee.
American Patriot Bank | Greeneville | Tennessee.
Greeneville Federal Bank, FSB | Greeneville | Tennessee.
Citizens Bank | Hartsville | Tennessee.
Holston Valley Credit Union | Kingsport | Tennessee.
Clayton Bank and Trust | Knoxville | Tennessee.
Citizens Bank of Blount County | Maryville | Tennessee.
FEDEX Employees Credit Association | Memphis | Tennessee.
The Bank of Milan | Milan | Tennessee.
Patriot Bank | Millington | Tennessee.
Security Bank | Newbern | Tennessee.
ORNL Federal Credit Union | Oak Ridge | Tennessee.
Tennessee Members 1st Federal Credit Union | Oak Ridge | Tennessee.
Y-12 Federal Credit Union | Oak Ridge | Tennessee.
Volunteer State Bank | Portland | Tennessee.
Mountain National Bank | Sevierville | Tennessee.
First Bank of Tennessee | Spring City | Tennessee.
Merchants and Planters Bank | Toone | Tennessee.
Federal Home Loan Bank of Indianapolis—District 6
Centra Credit Union | Columbus | Indiana.
Crane Federal Credit Union | Crane | Indiana.
CSB Bank | Cynthiana | Indiana.
Three Rivers Federal Credit Union | Fort Wayne | Indiana.
Heartland Community Bank | Franklin | Indiana.
Grabill Bank | Grabill | Indiana.
Greenfield Banking Company | Greenfield | Indiana.
Indiana Members Credit Union | Indianapolis | Indiana.
Community First Bank Howard County | Kokomo | Indiana.
Solidarity Community Federal Credit Union | Kokomo | Indiana.
Dearborn Savings Bank | Lawrenceburg | Indiana.
State Bank of Lizton | Lizton | Indiana.
Ball State Federal Credit Union | Muncie | Indiana.
WGE Federal Credit Union | Muncie | Indiana.
The Napoleon State Bank | Napoleon | Indiana.
Heritage Federal Credit Union | Newburgh | Indiana.
North Salem Savings Bank | North Salem | Indiana.
Central Bank, FSB | Nicholasville | Kentucky.
FirstBank of Alma | Alma | Michigan.
Bank of Alpena | Alpena | Michigan.
University Bank | Ann Arbor | Michigan.
Kellogg Community Federal Credit Union | Battle Creek | Michigan.
Clarkston State Bank | Clarkston | Michigan.
Michigan Schools and Government Credit Union | Clinton Towns | Michigan.
Motor City Co-op Credit Union | Clinton Towns | Michigan.
Auto Club Trust, FSB | Dearborn | Michigan.
Summit Community Bank | East Lansing | Michigan.
Credit Union One | Ferndale | Michigan.
Financial Plus Federal Credit Union | Flint | Michigan.
Hillsdale County National Bank | Hillsdale | Michigan.
Macatawa Bank | Holland | Michigan.
CP Federal Credit Union | Jackson | Michigan.
Consumers Credit Union | Kalamazoo | Michigan.
Educational Community Credit Union | Kalamazoo | Michigan.
Keystone Community Bank | Kalamazoo | Michigan.
Community Choice Credit Union | Livonia | Michigan.
Co-op Services Credit Union | Livonia | Michigan.
Marshall Community Credit Union | Marshall | Michigan.
Members First Credit Union | Midland | Michigan.
Monroe County Community Credit Union | Monroe | Michigan.
Christian Financial Credit Union | Roseville | Michigan.
United Financial Credit Union | Saginaw | Michigan.
United Federal Credit Union | Saint Joseph | Michigan.
Seaway Community Bank | Saint Clair | Michigan.
First Catholic Federal Credit Union | Taylor | Michigan.
Members Credit Union | Traverse City | Michigan.
TBA Education Credit Union | Traverse City | Michigan.
Federal Home Loan Bank of Chicago—District 7
Apple River State Bank | Apple River | Illinois.
First National Bank of Barry | Barry | Illinois.
Bank of Bourbonnais | Bourbonnais | Illinois.
Casey State Bank | Casey | Illinois.
State Bank Cerro Gordo | Cerro Gordo | Illinois.
BankChampaign, National Association | Champaign | Illinois.
Citizens Bank of Chatsworth | Chatsworth | Illinois.
First Nations Bank | Chicago | Illinois.
Marquette Bank | Chicago | Illinois.
Metropolitan Bank & Trust Company | Chicago | Illinois.
North Community Bank | Chicago | Illinois.
Inland Bank and Trust | Countryside | Illinois.
Resource Bank, National Association | DeKalb | Illinois.
Dewey State Bank | Dewey | Illinois.
PNA Bank | Downers Grove | Illinois.
Du Quoin State Bank | Du Quoin | Illinois.
First Clover Leaf Bank, FSB | Edwardsville | Illinois.
Crossroads Bank | Effingham | Illinois.
Farmer City State Bank | Farmer City | Illinois.
The Fisher National Bank | Fisher | Illinois.
Flanagan State Bank | Flanagan | Illinois.
Cornerstone Credit Union | Freeport | Illinois.
Midwest Community Bank | Freeport | Illinois.
Galena State Bank & Trust Company | Galena | Illinois.
First Southern Bank | Grand Tower | Illinois.
State Bank of Graymont | Graymont | Illinois.
Henry State Bank | Henry | Illinois.
Ipava State Bank | Ipava | Illinois.
Commonwealth Credit Union | Kankakee | Illinois.
Citizens State Bank | Lena | Illinois.
Brickyard Bank | Lincolnwood | Illinois.
Bank & Trust Company | Litchfield | Illinois.
Mazon State Bank | Mazon | Illinois.
First National Bank of McHenry | McHenry | Illinois.
First National Bank of Nokomis | Nokomis | Illinois.
Nokomis Savings Bank | Nokomis | Illinois.
Northbrook Bank & Trust Company | Northbrook | Illinois.
First National Bank of Pana | Pana | Illinois.
Vermilion Valley Bank | Piper City | Illinois.
Lincoln State Bank, SB | Rochelle | Illinois.
MWABank | Rock Island | Illinois.
Spring Valley City Bank | Spring Valley | Illinois.
First National Bank in Staunton | Staunton | Illinois.
Table Grove State Bank | Table Grove | Illinois.
Capaha Bank, SB | Tamms | Illinois.
Community Bank of Trenton | Trenton | Illinois.
First Community Bank, Xenia-Flora | Xenia | Illinois.
American National Bank—Fox Cities | Appleton | Wisconsin.
State Bank of Arcadia | Arcadia | Wisconsin.
First National Bank and Trust | Barron | Wisconsin.
Blackhawk State Bank | Beloit | Wisconsin.
First National Bank of Berlin | Berlin | Wisconsin.
First Business Bank—Milwaukee | Brookfield | Wisconsin.
State Bank of Chilton | Chilton | Wisconsin.
Northwestern Bank | Chippewa Falls | Wisconsin.
Cleveland State Bank | Cleveland | Wisconsin.
DMB Community Bank | De Forest | Wisconsin.
Peoples Bank | Elkhorn | Wisconsin.
American Bank | Fond du Lac | Wisconsin.
Peoples Bank of Wisconsin | Hayward | Wisconsin.
Horicon State Bank | Horicon | Wisconsin.
Blackhawk Credit Union | Janesville | Wisconsin.
Farmers State Bank | Markesan | Wisconsin.
Mid-Wisconsin Bank | Medford | Wisconsin.
Empower Credit Union | Milwaukee | Wisconsin.
Mitchell Bank | Milwaukee | Wisconsin.
Bank of Monticello | Monticello | Wisconsin.
The Bank of New Glarus | New Glarus | Wisconsin.
First National Community Bank | New Richmond | Wisconsin.
CitizensFirst Credit Union | Oshkosh | Wisconsin.
Palmyra State Bank | Palmyra | Wisconsin.
Bank of Poynette | Poynette | Wisconsin.
Johnson Bank | Racine | Wisconsin.
Shell Lake State Bank | Shell Lake | Wisconsin.
Eagle Valley Bank, National Association | Saint Croix Falls | Wisconsin.
Superior Bank | Superior | Wisconsin.
Shoreline Credit Union | Two Rivers | Wisconsin.
InvestorsBank | Waukesha | Wisconsin.
Sunset Bank & Savings | Waukesha | Wisconsin.
Bank of Wausau | Wausau | Wisconsin.
The Equitable Bank, S.S.B | Wauwatosa | Wisconsin.
Guardian Credit Union | West Allis | Wisconsin.
Westby Co-op Credit Union | Westby | Wisconsin.
Federal Home Loan Bank of Des Moines—District 8
Ackley State Bank | Ackley | Iowa.
Exchange State Bank | Adair | Iowa.
Farmers State Bank | Algona | Iowa.
First State Bank | Belmond | Iowa.
Ascentra Credit Union | Bettendorf | Iowa.
1st Gateway Credit Union | Camanche | Iowa.
Iowa Community Credit Union | Cedar Falls | Iowa.
Bankers Trust Company | Cedar Rapids | Iowa.
Cedar Rapids Bank and Trust Company | Cedar Rapids | Iowa.
Collins Community Credit Union | Cedar Rapids | Iowa.
Columbus Junction State Bank | Columbus Junction | Iowa.
Freedom Security Bank | Coralville | Iowa.
Iowa State Savings Bank | Creston | Iowa.
Decorah Bank & Trust Company | Decorah | Iowa.
Dupaco Community Credit Union | Dubuque | Iowa.
GNB Bank | Grundy Center | Iowa.
Hampton State Bank | Hampton | Iowa.
Hartwick State Bank | Hartwick | Iowa.
Hiawatha Bank & Trust Company | Hiawatha | Iowa.
Community Bank | Indianola | Iowa.
Green Belt Bank & Trust | Iowa Falls | Iowa.
Farmers State Bank | Lake View | Iowa.
United Bank & Trust, National Association | Marshalltown | Iowa.
Interstate Federal Savings and Loan Association | McGregor | Iowa.
First National Bank of Muscatine | Muscatine | Iowa.
State Bank & Trust Company | New Hampton | Iowa.
Community 1st Credit Union | Ottumwa | Iowa.
Liberty National Bank | Sioux City | Iowa.
The Security National Bank of Sioux City, Iowa | Sioux City | Iowa.
Heartland Bank | Somers | Iowa.
Farmers Trust and Savings Bank | Spencer | Iowa.
State Bank | Spencer | Iowa.
The Citizens First National Bank of Storm Lake | Storm Lake | Iowa.
Templeton Savings Bank | Templeton | Iowa.
Titonka Savings Bank | Titonka | Iowa.
Walker State Bank | Walker | Iowa.
West Chester Savings Bank | Washington | Iowa.
Community National Bank | Waterloo | Iowa.
First National Bank | Waverly | Iowa.
Peoples Savings Bank | Wellsburg | Iowa.
Farmers Savings Bank | Wever | Iowa.
Neighborhood National Bank | Alexandria | Minnesota.
1st Regents Bank | Andover | Minnesota.
Arlington State Bank | Arlington | Minnesota.
Atwater State Bank | Atwater | Minnesota.
First Commercial Bank | Bloomington | Minnesota.
First Farmers & Merchants State Bank | Brownsdale | Minnesota.
Eitzen State Bank | Caledonia | Minnesota.
Cambridge State Bank | Cambridge | Minnesota.
Peoples Bank of Commerce | Cambridge | Minnesota.
First National Bank | Chisholm | Minnesota.
Clinton State Bank | Clinton | Minnesota.
Crookston National Bank | Crookston | Minnesota.
North Shore Bank of Commerce | Duluth | Minnesota.
Park State Bank | Duluth | Minnesota.
State Bank of Easton | Easton | Minnesota.
First Farmers & Merchants National Bank | Fairmont | Minnesota.
Premier Bank Minnesota | Farmington | Minnesota.
First State Bank of Fountain | Fountain | Minnesota.
Citizens State Bank of Glenville | Glenville | Minnesota.
First Farmers & Merchants State Bank of Grand Meadow | Grand Meadow | Minnesota.
First Security Bank-Hendricks | Hendricks | Minnesota.
Community Pride Bank | Isanti | Minnesota.
Landmark Community Bank, National Association | Isanti | Minnesota.
Jackson Federal Savings and Loan Association | Jackson | Minnesota.
Janesville State Bank | Janesville | Minnesota.
Security State Bank of Kenyon | Kenyon | Minnesota.
First Farmers & Merchants National Bank | Le Sueur | Minnesota.
Lake Community Bank | Long Lake | Minnesota.
Frandsen Bank and Trust | Lonsdale | Minnesota.
21st Century Bank | Loretto | Minnesota.
Eagle Community Bank | Maple Grove | Minnesota.
Bank of Maple Plain | Maple Plain | Minnesota.
Private Bank Minnesota | Minneapolis | Minnesota.
Peoples National Bank of Mora | Mora | Minnesota.
Citizens Bank Minnesota | New Ulm | Minnesota.
Community Resource Bank | Northfield | Minnesota.
Community Development Bank, FSB | Ogema | Minnesota.
The First National Bank of Henning | Ottertail | Minnesota.
Pine River State Bank | Pine River | Minnesota.
Unity Bank North | Red Lake Falls | Minnesota.
North American Banking Company | Roseville | Minnesota.
American Bank of Saint Paul | Saint Paul | Minnesota.
Anchor Bank, National Association | Saint Paul | Minnesota.
Drake Bank | Saint Paul | Minnesota.
Western Bank | Saint Paul | Minnesota.
Mills Resolute Bank | Sanborn | Minnesota.
Citizens State Bank of Shakopee | Shakopee | Minnesota.
Americana Community Bank | Sleepy Eye | Minnesota.
First National Bank at Saint James | Saint James | Minnesota.
Saint Martin National Bank | Saint Martin | Minnesota.
City & County Credit Union | Saint Paul | Minnesota.
Hiway Federal Credit Union | Saint Paul | Minnesota.
State Bank of Taunton | Taunton | Minnesota.
Profinium Financial, Inc | Truman | Minnesota.
Vermillion State Bank | Vermillion | Minnesota.
Northern State Bank of Virginia, Minnesota | Virginia | Minnesota.
First State Bank of Wabasha | Wabasha | Minnesota.
Farmers State Bank of West Concord | West Concord | Minnesota.
Heritage Bank, National Association | Spicer | Minnesota.
Merchants Bank, National Association | Winona | Minnesota.
First State Bank of Wyoming | Wyoming | Minnesota.
Bank of Zumbrota | Zumbrota | Minnesota.
Bank of Belton | Belton | Missouri.
America's Community Bank | Blue Springs | Missouri.
Citizens Bank of Blythedale | Blythedale | Missouri.
Flowers National Bank | Cainsville | Missouri.
Mississippi County Savings & Loan Association | Charleston | Missouri.
The Business Bank of Saint Louis | Clayton | Missouri.
The Boone County National Bank of Columbia | Columbia | Missouri.
The Citizens Bank of Edina | Edina | Missouri.
Commercial Trust Company of Fayette | Fayette | Missouri.
Farmers Bank of Green City | Green City | Missouri.
Home Exchange Bank | Jamesport | Missouri.
Peoples Bank of Moniteau County | Jamestown | Missouri.
Jefferson Bank of Missouri | Jefferson City | Missouri.
Peoples Bank of Wyaconda | Kahoka | Missouri.
Central Bank of Kansas City | Kansas City | Missouri.
CommunityAmerica Credit Union | Kansas City | Missouri.
Kearney Trust Company | Kearney | Missouri.
Goppert Financial Bank | Lathrop | Missouri.
Lawson Bank | Lawson | Missouri.
United State Bank | Lewistown | Missouri.
The Mercantile Bank of Louisiana, Missouri | Louisiana | Missouri.
City Bank and Trust Company of Moberly | Moberly | Missouri.
Bank of Old Monroe | Old Monroe | Missouri.
First Missouri State Bank | Poplar Bluff | Missouri.
First State Bank of Purdy | Purdy | Missouri.
Community Bank of Missouri | Richmond | Missouri.
The Seymour Bank | Seymour | Missouri.
State Bank of Slater | Slater | Missouri.
Metropolitan National Bank | Springfield | Missouri.
Commercial Bank | Saint Louis | Missouri.
Safety National Casualty Corporation | Saint Louis | Missouri.
Stifel Bank & Trust | Saint Louis | Missouri.
Farmers Bank of Northern Missouri | Unionville | Missouri.
American Bank of Missouri | Wellsville | Missouri.
VUE Community Credit Union | Bismarck | North Dakota.
State Bank of Bottineau | Bottineau | North Dakota.
Heartland State Bank | Edgeley | North Dakota.
Bremer Bank, National Association | Grand Forks | North Dakota.
Unison Bank | Jamestown | North Dakota.
North Country Bank, National Association | McClusky | North Dakota.
First United Bank | Park River | North Dakota.
Northland Financial | Steele | North Dakota.
Peoples State Bank | Westhope | North Dakota.
Security State Bank | Wishek | North Dakota.
Dakota State Bank | Blunt | South Dakota.
Merchants State Bank | Freeman | South Dakota.
First National Bank in Philip | Philip | South Dakota.
BankWest, Inc | Pierre | South Dakota.
Dakota Prairie Bank | Presho | South Dakota.
First Dakota National Bank | Yankton | South Dakota.
Federal Home Loan Bank of Dallas—District 9
Pinnacle Bank | Bentonville | Arkansas.
Bank of Cave City | Cave City | Arkansas.
DeWitt Bank & Trust Company | DeWitt | Arkansas.
Simmons First Bank of El Dorado, National Association | El Dorado | Arkansas.
Twin Lakes Community Bank | Flippin | Arkansas.
First Federal Bank | Harrison | Arkansas.
Simmons First Bank of Northeast Arkansas | Jonesboro | Arkansas.
Little River Bank | Lepanto | Arkansas.
First National Bank of McGehee | McGehee | Arkansas.
Merchants & Planters Bank | Newport | Arkansas.
Piggott State Bank | Piggott | Arkansas.
Simmons First Bank | Russellville | Arkansas.
Security Bank | Stephens | Arkansas.
First National Bank of Lawrence County | Walnut Ridge | Arkansas.
First State Bank of Warren | Warren | Arkansas.
Mississippi River Bank | Belle Chasse | Louisiana.
Citizens Savings Bank | Bogalusa | Louisiana.
Homeland Federal Savings Bank | Columbia | Louisiana.
American Bank & Trust Company | Covington | Louisiana.
Commercial Capital Bank | Delhi | Louisiana.
State Bank & Trust Company | Golden Meadow | Louisiana.
First Community Bank | Hammond | Louisiana.
First National Bank of Jeanerette | Jeanerette | Louisiana.
Peoples State Bank | Many | Louisiana.
City Bank & Trust Company | Natchitoches | Louisiana.
First Bank & Trust | New Orleans | Louisiana.
West Carroll Community Bank | Oak Grove | Louisiana.
Dow Louisiana Federal Credit Union | Plaquemine | Louisiana.
Aneca Federal Credit Union | Shreveport | Louisiana.
Carter Federal Credit Union | Springhill | Louisiana.
Louisiana Delta Bank | Vidalia | Louisiana.
Winnsboro State Bank & Trust Company | Winnsboro | Louisiana.
Community Bank, North Mississippi | Amory | Mississippi.
Bank of Anguilla | Anguilla | Mississippi.
First Security Bank | Batesville | Mississippi.
Guaranty Bank & Trust Company | Belzoni | Mississippi.
Keesler Federal Credit Union | Biloxi | Mississippi.
Peoples Bank of the South | Bude | Mississippi.
Citizens Bank | Byhalia | Mississippi.
First National Bank of Clarksdale | Clarksdale | Mississippi.
Community Bank | Ellisville | Mississippi.
Bank of Forest | Forest | Mississippi.
Hancock Bank | Gulfport | Mississippi.
Merchants & Farmers Bank | Kosciusko | Mississippi.
PriorityOne Bank | Magee | Mississippi.
Oxford University Bank | Oxford | Mississippi.
New Mexico Educators Federal Credit Union | Albuquerque | New Mexico.
Sandia Area Federal Credit Union | Albuquerque | New Mexico.
My Bank | Belen | New Mexico.
Citizens Bank of Clovis | Clovis | New Mexico.
Four Corners Community Bank | Farmington | New Mexico.
The First National Bank of Albany | Albany | Texas.
First Community Bank | Alice | Texas.
Herring Bank | Amarillo | Texas.
Treaty Oak Bank | Austin | Texas.
The First National Bank of Bastrop | Bastrop | Texas.
Mobiloil Federal Credit Union | Beaumont | Texas.
Community National Bank | Bellaire | Texas.
Brady National Bank | Brady | Texas.
First State Bank of Brownsboro | Brownsboro | Texas.
Citizens State Bank | Buffalo | Texas.
Citizens Bank | Claude | Texas.
Texas Heritage National Bank | Daingerfield | Texas.
Grand Bank | Dallas | Texas.
Tolleson Private Bank | Dallas | Texas.
Farmers and Merchants Bank | De Leon | Texas.
Texas Financial Bank | Eden | Texas.
Ennis State Bank | Ennis | Texas.
Town North Bank, National Association | Farmers Branch | Texas.
Fayetteville Bank | Fayetteville | Texas.
Fort Davis State Bank | Fort Davis | Texas.
EECU | Fort Worth | Texas.
Texas Gulf Bank, National Association | Freeport | Texas.
First National Bank in Graham | Graham | Texas.
Graham Savings & Loan, SSB | Graham | Texas.
Grandview Bank | Grandview | Texas.
Bank of the West | Grapevine | Texas.
Peoples State Bank of Hallettsville | Hallettsville | Texas.
Chasewood Bank | Houston | Texas.
First Community Credit Union | Houston | Texas.
Independence Bank, National Association | Houston | Texas.
People's Trust Federal Credit Union | Houston | Texas.
First Financial Bank | Huntsville | Texas.
Independent Bank of Texas | Irving | Texas.
First National Bank of Jasper | Jasper | Texas.
Star Bank of Texas | Lake Worth | Texas.
Texana Bank, National Association | Linden | Texas.
First National Bank of Livingston | Livingston | Texas.
First Bank & Trust Of Memphis | Memphis | Texas.
Lone Star Bank, SSB | Moulton | Texas.
Muleshoe State Bank | Muleshoe | Texas.
Pearland State Bank | Pearland | Texas.
HCSB, a state banking association | Plainview | Texas.
Texas First State Bank | Riesel | Texas.
Lone Star Capital Bank, National Association | San Antonio | Texas.
United San Antonio Community Federal Credit | San Antonio | Texas.
First Community Bank, National Association | San Benito | Texas.
First State Bank | Smithville | Texas.
Community Bank of Snyder | Snyder | Texas.
Texas Savings Bank, SSB | Snyder | Texas.
First Financial Bank, National Association | Stephenville | Texas.
First Financial Bank, National Association | Sweetwater | Texas.
TEXAR Federal Credit Union | Texarkana | Texas.
Mainland Bank | Texas City | Texas.
Texas Community Bank, National Association | The Woodlands | Texas.
Randolph-Brooks Federal Credit Union | Universal City | Texas.
Waggoner National Bank of Vernon | Vernon | Texas.
Wellington State Bank | Wellington | Texas.
Citizens National Bank of Wills Point | Wills Point | Texas.
Federal Home Loan Bank of Topeka—District 10
Partner Colorado Credit Union | Arvada | Colorado.
Academy Bank, National Association | Colorado Springs | Colorado.
CoBiz Bank | Denver | Colorado.
Native American Bank, National Association | Denver | Colorado.
Versus Bank of Commerce | Fort Collins | Colorado.
Red Rocks Credit Union | Highlands Ranch | Colorado.
Solera National Bank | Lakewood | Colorado.
Champion Bank | Parker | Colorado.
Mountain View Bank of Commerce | Westminster | Colorado.
Stockgrowers State Bank of Ashland | Ashland | Kansas.
The Bendena State Bank | Bendena | Kansas.
The First National Bank of Cunningham | Cunningham | Kansas.
State Bank of Downs | Downs | Kansas.
Mid America Bank | Baldwin City | Kansas.
Garden City State Bank | Baldwin City | Kansas.
The First National Bank of Girard | Girard | Kansas.
Merit Bank | Goff | Kansas.
American State Bank & Trust Company | Great Bend | Kansas.
The Citizens National Bank | Greenleaf | Kansas.
The First State Bank of Healy | Healy | Kansas.
Farmers & Merchants Bank of Hill City | Hill City | Kansas.
Hillsboro State Bank | Hillsboro | Kansas.
First National Bank of Holcomb | Holcomb | Kansas.
Denison State Bank | Holton | Kansas.
The Howard State Bank | Howard | Kansas.
The Jamestown State Bank | Jamestown | Kansas.
The Nekoma State Bank | La Crosse | Kansas.
First State Bank & Trust Company | Larned | Kansas.
The Lawrence Bank | Lawrence | Kansas.
Mainstreet Credit Union | Lenexa | Kansas.
First National Bank of Liberal | Liberal | Kansas.
First Security Bank | Overbrook | Kansas.
The Baileyville State Bank | Seneca | Kansas.
The Solomon State Bank | Solomon | Kansas.
Bank of Kansas | South Hutchinson | Kansas.
Saint Marys State Bank | Saint Marys | Kansas.
RelianzBank | Wichita | Kansas.
Adams State Bank | Adams | Nebraska.
Heartland Community Bank | Bennet | Nebraska.
The First National Bank of Cambridge | Cambridge | Nebraska.
First National Bank of Chadron | Chadron | Nebraska.
Bank of Clarks | Clarks | Nebraska.
Farmers Bank of Cook | Cook | Nebraska.
Farmers State Bank | Dodge | Nebraska.
The First National Bank of Fairbury | Fairbury | Nebraska.
First National Bank and Trust Company | Falls City | Nebraska.
The First National Bank of Gordon | Gordon | Nebraska.
Bank of Hartington | Hartington | Nebraska.
Hastings State Bank | Hastings | Nebraska.
The First National Bank of Johnson | Johnson | Nebraska.
Security National Bank | Laurel | Nebraska.
Nebraska Bank of Commerce | Lincoln | Nebraska.
Security First Bank | Lincoln | Nebraska.
State Bank of Scotia | Scotia | Nebraska.
Valley Bank and Trust Company | Scottsbluff | Nebraska.
The Tilden Bank | Tilden | Nebraska.
Wahoo State Bank | Wahoo | Nebraska.
1st Bank and Trust | Broken Bow | Oklahoma.
The First State Bank | Canute | Oklahoma.
First Bank of Chandler | Chandler | Oklahoma.
Great Plains National Bank | Elk City | Oklahoma.
First Capital Bank | Guthrie | Oklahoma.
Bank of Locust Grove | Locust Grove | Oklahoma.
The Bank, National Association | McAlester | Oklahoma.
Grant County Bank | Medford | Oklahoma.
The First National Bank of Midwest City | Midwest City | Oklahoma.
All America Bank | Oklahoma City | Oklahoma.
First Liberty Bank | Oklahoma City | Oklahoma.
The Focus Federal Credit Union | Oklahoma City | Oklahoma.
The First National Bank & Trust Company | Okmulgee | Oklahoma.
The Community State Bank | Poteau | Oklahoma.
The Exchange Bank | Skiatook | Oklahoma.
The First National Bank of Stigler | Stigler | Oklahoma.
Stroud National Bank | Stroud | Oklahoma.
Security State Bank of Wewoka | Wewoka | Oklahoma.
Federal Home Loan Bank of San Francisco—District 11
Mohave State Bank | Lake Havasu City | Arizona.
Arizona Bank & Trust | Mesa | Arizona.
Credit Union West | Phoenix | Arizona.
Desert Schools Federal Credit Union | Phoenix | Arizona.
Tempe Schools Credit Union | Tempe | Arizona.
Bank of Tucson | Tucson | Arizona.
1st Bank Yuma | Yuma | Arizona.
Central Valley Community Bank | Clovis | California.
Clearinghouse CDFI | Lake Forest | California.
Community Commerce Bank | Los Angeles | California.
Community West Bank, National Association | Goleta | California.
Far East National Bank | Los Angeles | California.
First Commercial Bank (USA) | Alhambra | California.
GBC International Bank | Los Angeles | California.
Golden Valley Bank | Chico | California.
Partners Federal Credit Union | Anaheim | California.
Mission Bank | Bakersfield | California.
America's Christian Credit Union | Brea | California.
Merchants Bank of California, N.A | Carson | California.
Seacoast Commerce Bank | Chula Vista | California.
Redwood Capital Bank | Eureka | California.
Commerce National Bank | Fullerton | California.
Pacific Community Credit Union | Fullerton | California.
SCE Federal Credit Union | Irwindale | California.
Southland Credit Union | Los Alamitos | California.
1st Century Bank, National Association | Los Angeles | California.
Cathay Bank | Los Angeles | California.
Gilmore Bank | Los Angeles | California.
Pacific Commerce Bank | Los Angeles | California.
Saehan Bank | Los Angeles | California.
Water and Power Community Credit Union | Los Angeles | California.
Beach Business Bank | Manhattan Beach | California.
SRI Federal Credit Union | Menlo Park | California.
Orange County Business Bank | Newport Beach | California.
Community Bank of the Bay | Oakland | California.
Stanford Federal Credit Union | Palo Alto | California.
CBC Federal Credit Union | Port Hueneme | California.
First General Bank | Rowland Heights | California.
Pacific Valley Bank | Salinas | California.
Cabrillo Credit Union | San Diego | California.
California Coast Credit Union | San Diego | California.
Miramar Federal Credit Union | San Diego | California.
Security Business Bank of San Diego | San Diego | California.
Gateway Bank, FSB | San Francisco | California.
Technology Credit Union | San Jose | California.
Santa Barbara Bank & Trust, National Association | Santa Barbara | California.
Santa Cruz County Bank | Santa Cruz | California.
Exchange Bank | Santa Rosa | California.
First National Bank of Northern California | South San Francisco | California.
Mission Valley Bank | Sun Valley | California.
Honda Federal Credit Union | Torrance | California.
Visalia Community Bank | Visalia | California.
Bay Commercial Bank | Walnut Creek | California.
Charles Schwab Bank | Reno | Nevada.
Federal Home Loan Bank of Seattle—District 12
Denali State Bank | Fairbanks | Alaska.
Tongass Federal Credit Union | Ketchikan | Alaska.
Hawaii Federal Credit Union | Honolulu | Hawaii.
HawaiiUSA Federal Credit Union | Honolulu | Hawaii.
East Idaho Credit Union | Idaho Falls | Idaho.
Valley Bank of Kalispell | Kalispell | Montana.
West One Bank | Kalispell | Montana.
First Montana Bank | Libby | Montana.
Missoula Federal Credit Union | Missoula | Montana.
Willamette Community Bank | Albany | Oregon.
First Technology Federal Credit Union | Beaverton | Oregon.
Bank of the Cascades | Bend | Oregon.
First Community Credit Union | Coquille | Oregon.
Siuslaw Bank | Florence | Oregon.
Oregon Coast Bank | Newport | Oregon.
Capital Pacific Bank | Portland | Oregon.
Pacific NW Federal Credit Union | Portland | Oregon.
Umpqua Bank | Roseburg | Oregon.
Marion and Polk Schools Credit Union | Salem | Oregon.
Clackamas County Bank | Sandy | Oregon.
Republic Bank, Inc | Bountiful | Utah.
Bank of Utah | Ogden | Utah.
Goldenwest Credit Union | Ogden | Utah.
BMW Bank of North America | Salt Lake City | Utah.
Capmark Bank | Salt Lake City | Utah.
Celtic Bank Corporation | Salt Lake City | Utah.
Deseret First Credit Union | Salt Lake City | Utah.
Wright Express Financial Service Corporation | Salt Lake City | Utah.
Heritage Bank | Saint George | Utah.
Eastside Commercial Bank, National Association | Bellevue | Washington.
Industrial Credit Union of Whatcom County | Bellingham | Washington.
North Coast Credit Union | Bellingham | Washington.
Lacamas Community Credit Union | Camas | Washington.
Cashmere Valley Bank | Cashmere | Washington.
NorthWest Plus Credit Union | Everett | Washington.
Community First Bank | Kennewick | Washington.
Pacific International Bank | Seattle | Washington.
Regal Financial Bank | Seattle | Washington.
Seattle Metropolitan Credit Union | Seattle | Washington.
Verity Credit Union | Seattle | Washington.
AmericanWest Bank | Spokane | Washington.
Global Credit Union | Spokane | Washington.
Horizon Credit Union | Spokane | Washington.
Yakima National Bank | Yakima | Washington.
Cheyenne State Bank | Cheyenne | Wyoming.
First Federal Savings Bank | Sheridan | Wyoming.

II. Public Comments

To encourage the submission of public comments on the community support performance of Bank members, on or before June 29, 2012, each Bank will notify its Advisory Council and nonprofit housing developers, community groups, and other interested parties in its district of the members selected for community support review in the 2010 sixth round review cycle. 12 CFR 1290.2(b)(2)(ii). In reviewing a member for community support compliance, FHFA will consider any public comments it has received concerning the member. 12 CFR 1290.2(d). To ensure consideration by FHFA, comments concerning the community support performance of members selected for the 2010 sixth round review cycle must be delivered to FHFA, either by hard-copy mail at the Federal Housing Finance Agency, Ninth Floor, Housing Mission and Goals (DHMG), 400 Seventh Street SW., Washington, DC 20024, or by electronic mail to hmgcommunitysupportprogram@fhfa.gov on or before the July 30, 2012 deadline for submission of Community Support Statements.

Dated: June 8, 2012.
Edward J. DeMarco,
Acting Director, Federal Housing Finance Agency.

[FR Doc. 2012-14590 Filed 6-14-12; 8:45 am]

BILLING CODE 8070-01-P